DEPARTMENT OF THE INTERIOR

Bureau of Land Management

[CO-923-1430-ET; COC-70988]

Notice of Proposed Withdrawal and Opportunity for Public Meeting; Colorado

AGENCY: Bureau of Land Management, Interior.

ACTION: Notice.

SUMMARY: The Secretary of the Interior proposes to withdraw on behalf of the Bureau of Land Management (BLM) 4,138 acres of public lands for a period of 20 years to protect scenic, recreation, water quality, and wildlife habitat values in Routt County, Colorado. This notice temporarily segregates the lands for up to 2 years from settlement, sale, location, or entry under the general land laws, including the mining laws, and the mineral and geothermal leasing laws while the 20-year withdrawal application is being processed.

DATES: Comments and requests for a public meeting must be received by August 21, 2007.

ADDRESSES: Comments and meeting requests should be sent to the BLM Colorado State Director, 2850 Youngfield Street, Lakewood, Colorado 80215-7093.

FOR FURTHER INFORMATION CONTACT: John Beck, BLM Colorado State Office, 303-239-3882 or at the above address.

SUPPLEMENTARY INFORMATION: The applicant for the above withdrawal is the BLM at the address stated above. The petition/application requests the Secretary of the Interior to withdraw, for a period of 20 years, the following described public lands from settlement, sale, location, or entry under the general land laws, including the mining laws, and the mineral and geothermal leasing laws, subject to valid existing rights:

Sixth Principal Meridian

T. 6 N., R. 85 W.,

Sec. 13, SE¼SE¼, excepting and excluding the west 100 feet thereof and the north 100 feet thereof;

Sec. 15, S½NE¼, S½SW¼, and SE¼;

Sec. 21, That portion of the S½N½SE¼NE¼, S½SE¼NE¼, and E½SE¼ lying North and East of the centerline of the Cow Creek Road (County Road No. 45) excepting the traverse and right-of-way, whether an easement or in fee, for County Road No. 45;

Sec. 22;

Sec. 23, W½NW¼, W½SE¼NW¼, SE¼SE¼NW¼, SW¼, S½N½SE¼, and S½SE¼;

Sec. 24, E½E½NW¼, E½SW¼, S½NW¼SW¼, SW¼SW¼, NW¼SE¼, S½SE¼, W½NE¼, and NE¼NE¼;

Secs. 25 and 26;

Secs. 27, 34, and 35, those portions lying north and east of the centerline of the Cow Creek Road (County Road No. 45);

Excepting therefrom a parcel of land containing 123.78 acres located in secs. 23 and 24 of T. 6 N., R. 85 W. of the 6th P.M., Routt County, Colorado, described as follows:

Beginning at a point on the North side of an existing road (top of ridge) and on the North line of the said NW¼NW¼ of sec. 23 from which the Northwest corner of said sec. 23 bears N89°13′32″W 164.58 feet;

Thence East along the North line of the said NW¼NW¼ of sec. 23 to the Northwest corner of the NE¼NW¼ of sec. 23 and the Northwest corner of a parcel of land which is described at Reception Number 610794 (State of Colorado Patent No. 8350) of the Routt County Clerk and Recorders Records;

Thence South along the West line of the said NE¼NW¼ of sec. 23 and along the West line said Reception Number 610794;

Thence East along the South line of the said NE¼NW¼ of sec. 23 and along a South line said Reception Number 610794;

Thence South along the West line of the said NE¼SE¼NW¼ of sec. 23 and along a West line said Reception Number 610794;

Thence East along the South line of the said NE¼SE¼NW¼ of sec. 23 and along a South line said Reception Number 610794;

Thence South along the West line of the said NE¼ of sec. 23 and along a West line said Reception Number 610794;

Thence South along the West line of the said N½N½SE¼ of sec. 23 and along a West line said Reception Number 610794;

Thence East along the South line of the said N½N½SE¼ of sec. 23 and along the South line said Reception Number 610794;

Thence East along the South line of the said N½NW¼SW¼ of sec. 24 and along the South line said Reception Number 610794;

Thence North along the East line of the said N½NW¼SW¼ of sec. 24 and along an East line said Reception Number 610794;

Thence East along the South line of the said W½SE¼NW¼ of sec. 24 and along a South line said Reception Number 610794;

Thence North along the East line of the said W½SE¼NW¼ of sec. 24 and along an East line said Reception Number 610794 to the VOR Boundary Line (State Lease No. S-40743);

Thence along the VOR Boundary Line S12°50′38″ E 299.28 feet;

Thence S33°42′38″ E 22.93 feet to the said the North side of an existing road (top of ridge);

Thence along the North side of an existing road (top of ridge) the following 110 calls:

Thence S50°53′35″ W 74.77 feet;

Thence S30°01′45″ W 154.66 feet;

Thence S28°31′35″ W 87.10 feet;

Thence S69°35′54″ W 81.43 feet;

Thence S85°40′20″ W 60.86 feet;

Thence S49°17′24″ W 58.86 feet;

Thence S41°56′59″ W 134.03 feet;

Thence S37°38′18″ W 87.73 feet;

Thence S15°35′30″ W 79.00 feet;

Thence S49°46′21″ W 108.55 feet;

Thence S12°48′13″ W 74.61 feet;

Thence S38°47′34″ W 88.97 feet;

Thence N85°43′33″ W 115.46 feet;

Thence N31°26′52″ W 73.54 feet;

Thence N14°56′20″ W 104.21 feet;

Thence N56°36′48″ W 84.47 feet;

Thence N86°58′32″ W 25.88 feet;

Thence N54°51′32″ W 72.09 feet;

Thence S85°51′12″ W 105.33 feet;

Thence S61°17′43″ W 268.38 feet;

Thence S40°58′52″ W 112.92 feet;

Thence S52°06′13″ W 122.46 feet;

Thence S60°18′48″ W 136.16 feet;

Thence S76°44′29″ W 99.18 feet;

Thence S86°42′26″ W 66.02 feet;

Thence S68°09′27″ W 71.14 feet;

Thence S72°42′33″ W 86.80 feet;

Thence S76°38′34″ W 74.19 feet;

Thence S58°25′05″ W 104.46 feet;

Thence S83°56′22″ W 58.42 feet;

Thence N64°17′55″ W 154.26 feet;

Thence S84°05′15″ W 114.25 feet;

Thence S88°58′19″ W 132.72 feet;

Thence S68°36′20″ W 53.92 feet;

Thence S76°57′09″ W 103.67 feet;

Thence N82°43′50″ W 152.63 feet;

Thence S65°04′59″ W 131.51 feet;

Thence S81°58′30″ W 50.01 feet;

Thence N66°22′44″ W 103.89 feet;

Thence N67°36′04″ W 142.14 feet;

Thence N81°15′18″ W 101.71 feet;

Thence N88°03′08″ W 91.61 feet;

Thence N85°51′10″ W 83.84 feet;

Thence S63°07′53″ W 96.98 feet;

Thence S87°19′55″ W 52.62 feet;

Thence N81°02′21″ W 52.60 feet;

Thence S72°58′28″ W 102.27 feet;

Thence N85°45′58″ W 46.89 feet;

Thence N76°50′26″ W 121.49 feet;

Thence N66°37′46″ W 82.62 feet;

Thence N70°03′27″ W 102.49 feet;

Thence N86°09′48″ W 144.29 feet;

Thence N61°19′11″ W 54.13 feet;

Thence N77°29′21″ W 236.46 feet;

Thence N65°54′30″ W 63.61 feet;

Thence N51°07′21″ W 64.32 feet;

Thence N39°08′23″ W 177.57 feet;

Thence N63°13′32″ W 88.53 feet;

Thence N35°43′27″ W 75.59 feet;

Thence N66°17′06″ W 108.99 feet;

Thence N57°14′02″ W 58.33 feet;

Thence N82°43′22″ W 85.03 feet;

Thence N37°25′09″ W 44.39 feet;

Thence N24°09′53″ W 38.91 feet;

Thence N47°56′52″ W 94.25 feet;

Thence N41°56′57″ W 110.76 feet;

Thence N25°13′06″ W 129.66 feet;

Thence N41°27′24″ W 64.04 feet;

Thence N11°22′34″ W 70.79 feet;

Thence N41°16′24″ W 120.61 feet;

Thence N59°17′37″ W 98.64 feet;

Thence N62°59′30″ W 23.50 feet;

Thence N32°41′09″ W 75.57 feet;

Thence N41°54′29″ W 85.05 feet;

Thence N29°45′20″ W 96.36 feet;

Thence N04°54′34″ W 105.47 feet;

Thence N17°02′34″ W 104.53 feet;

Thence N42°24′33″ W 42.32 feet;

Thence N73°51′48″ W 148.88 feet;

Thence N66°36′39″ W 31.71 feet;

Thence N45°56′30″ W 110.06 feet;

Thence N37°30′18″ W 78.07 feet;

Thence N29°31′07″ W 97.61 feet;

Thence N39°24′56″ W 140.33 feet;

Thence N31°39′34″ W 136.12 feet;

Thence N41°49′43″ W 89.75 feet;

Thence N68°54′22″ W 109.23 feet;

Thence N51°31′11″ W 70.02 feet;

Thence N15°08′01″ W 15.17 feet;

Thence N15°27′12″ E 108.56 feet;

Thence N21°37′52″ E 105.46 feet;

Thence N06°44′53″ E 107.26 feet;

Thence N03°03′35″ E 68.31 feet;

Thence N21°05′16″ E 93.84 feet;

Thence N00°26′24″ E 65.96 feet;

Thence N09°16′03″ E 57.58 feet;

Thence N18°37′13″ W 72.17 feet;

Thence N37°53′14″ W 124.39 feet;

Thence N61°43′36″ W 89.58 feet;

Thence N50°42′33″ W 86.54 feet;

Thence N53°38′51″ W 83.66 feet;

Thence N37°16′48″ W 46.09 feet;

Thence N17°28′58″ W 56.27 feet;

Thence N06°24′06″ W 44.49 feet;

Thence N16°53′31″ W 106.95 feet;

Thence N05°02′10″ W 224.13 feet;

Thence N14°40′37″ W 82.61 feet;

Thence N28°19′20″ W 76.69 feet;

Thence N11°15′24″ W 69.14 feet;

Thence N00°55′11″ W 21.10 feet to the Point of Beginning.

All bearings shown hereon are based upon the North line of the NE¼ of said sec. 24 as being N89°24′02″ W.

The areas described aggregate 4,138.52 acres, more or less, in Routt County according to U.S. Government Survey and James B. Ackerman, R.L.S. #16394, of Emerald Mountain Surveys, Inc., Steamboat Springs, CO 80477.

The BLM petition/application has been approved by the Assistant Secretary of the Interior. Therefore it constitutes a withdrawal proposal of the Secretary of the Interior (43 CFR 2310.1-3(e)).

The purpose of the withdrawal would be to protect the scenic, recreation, water quality, and wildlife habitat values on the lands newly acquired in the Emerald Mountain Land Exchange and achieve the management objectives of the BLM Little Snake Field Office Resource Management Plan Amendment.

The use of a right-of-way, an interagency or cooperative agreement would not adequately constrain non-discretionary uses that could irrevocably affect the resource values of the described lands.

There are no suitable alternative sites, as the described lands contain the resource values that need protection.

No water rights would be needed to fulfill the purpose of the requested withdrawal.

The potential for mineral development on the described lands is low.

Records relating to the proposed withdrawal can be examined by contacting John Beck at the above address or phone number.

For a period of 90 days from the date of publication of this notice, all persons who wish to submit comments, suggestions, or objections in connection with the proposed withdrawal may present their views in writing to the BLM Colorado State Director at the address listed above.

Comments, including names and street addresses of respondents, will be available for public review at the BLM Colorado State Office at the address listed during regular business hours, 7:45 a.m. to 4:15 p.m., Monday through Friday, except holidays. Individual respondents may request confidentiality. Before including your address, phone number, e-mail address, or other personal identifying information in your comment, you should be aware that your entire comment—including your personal identifying information—may be made publicly available at any time. While you can ask us in your comment to withhold your personal identifying information from public review, we cannot guarantee that we will be able to do so.

Notice is hereby given that an opportunity for a public meeting is afforded in connection with the proposed withdrawal. All interested persons who desire a public meeting for the purpose of being heard on the proposed withdrawal must submit a written request to the BLM Colorado State Director at the address listed above within 90 days from the date of publication of this notice. If the authorized officer determines a public meeting will be held, a notice of the time and place will be published in the Federal Register and a local newspaper at least 30 days before the scheduled date of the meeting.

Licenses, permits, cooperative agreements, and other discretionary land use authorizations may be allowed with the approval of an authorized officer of the BLM during the segregative period.

This withdrawal proposal will be processed in accordance with the regulations set forth in 43 CFR 2300.

For a period of 2 years from the date of publication of this notice in the Federal Register, the lands will be segregated as specified above unless the application is denied or cancelled or the withdrawal is approved prior to that date.

(Authority: 43 CFR 2310.3-1)

Dated: May 16, 2007.
John D. Beck,
Chief, Branch of Lands and Realty.

[FR Doc. E7-9933 Filed 5-22-07; 8:45 am]

BILLING CODE 4310-JB-P